DEPARTMENT OF HEALTH AND HUMAN SERVICES

Centers for Medicare and Medicaid Services

[Document Identifier: CMS-10201]

Emergency Clearance: Public Information Collection Requirements Submitted to the Office of Management and Budget (OMB)

AGENCY: Centers for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR 1320(a)(2)(ii). This is necessary to ensure compliance with an initiative of the Administration. We cannot reasonably comply with the normal clearance procedures because of an unanticipated event.

The evaluation is to study the MMA Section 702 demonstration, “Clarify the Definition of Homebound.” The 2-year demonstration in three regions is to test the effect of deeming certain beneficiaries homebound for purposes of meeting the Medicare home health benefit eligibility requirements. The demonstration began October 2004, and since October 2004, enrollment into the demonstration has been exceedingly small—a total of about 50 beneficiaries. This has occurred despite the fact that CMS has conducted a broad variety of outreach efforts to beneficiaries, home health agencies, and the public. Activities have included special conference calls; demonstration Website; public meetings; mass mailings to physician groups, insurers, hospitals, governments, aging offices, independent living centers, and others who have contact with disabled beneficiaries; letters of information to stakeholders; e-mails to home health agencies and advocacy organizations; attendance/booths/presentations at meetings; article placements; and special messages on carrier and intermediary Medicare explanation of benefits letters.

The purpose of the survey is to understand barriers that may have operated to impede enrollment in the demonstration, such as problems with eligibility definitions, other reasons why beneficiaries may not have qualified, and any other relevant information that agencies may be able to provide. The survey will also be used to understand the way agencies in the demonstration states apply the homebound eligibility criteria in practice. In addition, qualitative information so far has indicated that the role of the homebound criterion may have changed since the Medicare manual was revised to allow for home health beneficiaries to attend religious services and adult day care. If the revised definition has reduced concerns about the restrictiveness of the homebound eligibility criterion, we believe this information is important to include in the report to Congress. The original motivation for the demonstration was to loosen restrictions for certain types of beneficiaries.

1. Type of Information Collection Request: New collection; Title of Information Collection: Home Health Agency Survey on the Medicare Home Health Independence Demonstration; Use: The research evaluation for this information collection is being conducted under contract with Mathematica Policy Research, Inc. Mathematica Policy Research, Inc. (MPR) will use the quantitative data collected with the home health agency survey to supplement the qualitative data collected from other central stakeholders to understand the reasons for the low enrollment rate for the demonstration and ways to change the home health eligibility requirements. MPR has designed this mail questionnaire to collect information from the home health agencies in the following domains: Interpretation of the homebound rule, impact of the homebound rule upon their admissions and discharges, understanding of the demonstration eligibility criteria and determination of the eligibility status of their caseloads. This information will be used by Congress to understand why the demand within the Medicare population for the homebound waiver did not materialize as anticipated. Form Number: CMS-10201 (OMB#: 0938-NEW); Frequency: Reporting—One-time; Affected Public: Business or other for-profit, Not-for-profit institutions, and State, Local or Tribal governments; Number of Respondents: 120; Total Annual Responses: 120; Total Annual Hours: 60.

CMS is requesting OMB review and approval of this collection by September 1, 2006, with a 180-day approval period. Written comments and recommendations will be considered from the public if received by the individuals designated below by August 27, 2006.

To obtain copies of the supporting statement and any related forms for the proposed paperwork collections referenced above, access CMS' Web site address at http://www.cms.hhs.gov/regulations/pra or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by August 27, 2006:

CMS, Office of Strategic Operations and Regulatory Affairs, Division of Regulations Development—B, Attn: William N. Parham, III, Room C4-26-05, 7500 Security Boulevard, Baltimore, MD 21244-1850,

and,

OMB Human Resources and Housing Branch, Attention: Carolyn Lovett, New Executive Office Building, Room 10235, Washington, DC 20503.

Fax Number: (202) 395-6974.

Dated: July 20, 2006.
Michelle Shortt,
Director, Regulations Development Group, Office of Strategic Operations and Regulatory Affairs.

[FR Doc. E6-12037 Filed 7-27-06; 8:45 am]

BILLING CODE 4120-01-P